DEPARTMENT OF THE INTERIOR

Fish and Wildlife Service

Final Comprehensive Conservation Plan for Horicon and Fox River National Wildlife Refuges (NWRs) Dodge, Fond du Lac, and Marquette Counties, WI

AGENCY: Fish and Wildlife Service, Interior.

ACTION: Notice of availability.

SUMMARY: The U.S. Fish and Wildlife Service announces that the Final Comprehensive Conservation Plan (CCP) is available for Horicon and Fox River NWRs, Wisconsin.

The CCP was prepared pursuant to the National Wildlife Refuge System Administration Act of 1966, as amended by the National Wildlife Refuge System Improvement Act of 1997, and the National Environmental Policy Act of 1969. Goals and objectives in the CCP describe how the agency intends to manage the refuge over the next 15 years.

ADDRESSES: Copies of the Final CCP are available on compact disk or hard copy. You may obtain a copy by writing to: U.S. Fish and Wildlife Service, Division of Conservation Planning, Bishop Henry Whipple Federal Building, 1 Federal Drive, Fort Snelling, Minnesota 55111 or you may access and download a copy via the planning Web site at http://www.fws.gov/midwest/planning/horicon.

FOR FURTHER INFORMATION CONTACT: Patti Meyers, (920) 387-2658.

SUPPLEMENTARY INFORMATION: The 21,417-acre Horicon NWR was established in 1941 through land purchases approved by the Migratory Bird Conservation Commission. The 1,004-acre Fox River NWR is administered by the Horicon staff and was established by the Director in October 1978. The southern one-third of the Horicon Marsh is managed by the Department of Natural Resources and their land managers actively participated in the development of the CCP.

The National Wildlife Refuge System Administration Act of 1966, as amended by the National Wildlife Refuge System Improvement Act of 1997 (16 U.S.C. 668dd-668ee et seq.), requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction for conserving wildlife and their habitats, the CCP identifies wildlife-dependent recreational opportunities available to the public, including opportunities for hunting, fishing, wildlife observation and photography, and environmental education and interpretation. We will review and update these CCPs at least every 15 years.

Management of the Refuges for the next 15 years will focus on: (1) Improving the long-term sustainability of wildlife habitats; (2) increasing opportunities for wildlife-dependent recreation; and (3) strengthening and expanding partnerships with government agencies, organizations, and communities.

This document was received at the Office of the Federal Register on April 11, 2007.

Dated: December 8, 2006.
Charles M. Wooley,
Acting Regional Director, U.S. Fish and Wildlife Service, Fort Snelling, Minnesota.

[FR Doc. E7-7109 Filed 4-13-07; 8:45 am]

BILLING CODE 4310-55-P